DEPARTMENT OF DEFENSE

Office of Secretary of Defense

[DOD-2006-OS-0218]

Privacy Act of 1974; Systems of Records

AGENCY: Defense Logistics Agency, DOD.

ACTION: Notice to alter a system of records.

SUMMARY: The Defense Logistics Agency proposes to alter a system of records notice in its existing inventory of records systems subject to the Privacy Act of 1974, (5 U.S.C. 552a), as amended.

DATES: This proposed action will be effective without further notice on January 10, 2007 unless comments are received which result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the address above.

The proposed system reports, as required by 5 U.S.C. 552a(r), of the Privacy Act of 1974, as amended, were submitted on December 1, 2006, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 4, 2006.
C.R. Choate,
Alternate OSD Federal Register Liaison Officer, Department of Defense.

S340.10 DLA-KM

System name:

Time and Attendance Labor Exception Subsystem of APCAPS (November 16, 2004, 69 FR 67112).

Changes:

System identifier:

Delete “DLA-KM” from entry.

System name:

Delete entry and replace with “DLA Civilian Time and Attendance, Project and Workload Records.”

System location:

Delete entry and replace with “Headquarters, Defense Logistics Agency, 8725 John J. Kingman Road, Stop 2533, Fort Belvoir, VA 22060-6221, and each Defense Logistics Agency (DLA) Field Activity. Official mailing addresses are published as an appendix to DLA's compilation of systems of records notices.”

* * * * *

Categories of records in the system:

Delete entry and replace with “Records maintained include individual's name, Social Security Number, User ID, citizenship; pay; educational level; emergency data; employee's status, position, supervisor, timekeeper, project manager, system access level, accounting codes, organization and office location, e-mail address and office telephone numbers; telework location and phone number, rate, leave balances; work and shift schedule, project and workload records, regular and overtime work hours and leave hours, time and attendance records (timesheet), and information on temporary duty and special assignments.”

Authority for maintenance of the system:

Delete entry and replace with “5 U.S.C. Chapter 61, Hours of Work; Chapter 53, Pay Rates and Systems; Chapter 57, Travel, Transportation, and Subsistence; and Chapter 63, Leave; 5 U.S.C. 301, Departmental Regulations; 10 U.S.C. 136, Under Secretary of Defense for Personnel and Readiness; 31 U.S.C. Chapter 35, Accounting and Collection; and E.O. 9397 (SSN).”

Purpose(s):

Delete entry and replace with “Records are used to prepare time and attendance records, to record employee pay rates and status, including overtime, the use of leave, and work absences; to track workload, project activity for analysis and reporting purposes; for statistical reporting on leave and overtime use/usage patterns, number of employees Teleworking, etc.; and to answer employee queries on leave, overtime, and pay.

Information from this system of records is provided to the Defense Finance and Accounting Service for the purpose of issuing payroll to DLA civilian employees.”

* * * * *

Retrievability:

Delete entry and replace with “Records are retrieved by employee's name, Social Security Number or User ID.”

Safeguards:

Delete entry and replace with “Records are maintained in a controlled facility. Physical entry is restricted by the use of locks, guards, and is accessible only to authorized personnel. Access to computerized data is restricted by passwords, which are changed periodically. Access to record is limited to person(s) responsible for servicing the records in the performance of their official duties and who are properly screened and cleared for need-to-know. All individuals granted access to this system of records are required to have taken Information Assurance and Privacy Act training.”

Retention and disposal:

Delete entry and replace with “Initialed Leave Application Files (LAF) are destroyed at end of following pay period, un-initialed LAFs are destroyed after GAO audit or when 3 years old, whichever is sooner. Time and Attendance Source Records and Input Records are destroyed after GAO audit or when 6 years old, whichever is sooner. Leave Records are destroyed when 3 years old. Payroll system reports and data used for personnel management purposes are destroyed when 2 years old.

Project and workload records—disposition pending. Until the National Archives and Records Administration has approved the retention, treat “project and workload records” as permanent.”

System manager(s) and address:

Delete entry and replace with “EAGLE Project Manager, J6-UT Tailored Logistics Division, Defense Logistics Agency, 2001 Mission Drive, Suite 2, New Cumberland, PA 17070-5004. For a list of system managers at the DLA Field Activities, write to the EAGLE Project Manager.”

Notification procedure:

Delete entry and replace with “Individuals seeking to determine whether information about themselves is contained in this system of records should address written inquiries to the Privacy Act Office, Headquarters, Defense Logistics Agency, ATTN: DP, 8725 John J. Kingman Road, Stop 2533, Fort Belvoir, VA 22060-6221 or to the Privacy Act Office in the DLA Field Activity where employed. Official mailing addresses are published as an appendix to DLA's compilation of systems of records notices.

Inquiry should contain the subject individual's full name, User ID, return mailing address, and organizational location of employee.”

Record access procedures:

Delete entry and replace with “Individuals seeking access to information about themselves contained in this system of records should address written inquiries to the Privacy Act Office, Headquarters, Defense Logistics Agency, ATTN: DP, 8725 John J. Kingman Road, Stop 2533, Fort Belvoir, VA 22060-6221 or to the Privacy Act Office in the DLA Field Activity where employed. Official mailing addresses are published as an appendix to DLA's compilation of systems of records notices.

Inquiry should contain the subject individual's full name, User ID, return mailing address, and organizational location of employee.”

Contesting record procedures:

Delete entry and replace with “The DLA rules for accessing records, for contesting contents, and appealing initial agency determinations are contained in 32 CFR part 323, or may be obtained from the Privacy Act Office, Headquarters, Defense Logistics Agency, ATTN: DP, 8725 John J. Kingman Road, Stop 2533, Fort Belvoir, VA 22060-6221.”

Record source categories:

Delete entry and replace with “Subject individuals, supervisors, timekeepers, leave slips, payroll office and payroll records, including automated payroll systems.”

* * * * *

S340.10

System name:

DLA Civilian Time and Attendance, Project and Workload Records.

System location:

Headquarters, Defense Logistics Agency, 8725 John J. Kingman Road, Stop 2533, Fort Belvoir, VA 22060-6221, and each Defense Logistics Agency (DLA) Field Activity. Official mailing addresses are published as an appendix to DLA's compilation of systems of records notices.

Categories of individuals covered by the system:

DLA civilian employees and certain former DLA civilian employees.

Categories of records in the system:

Records maintained include individual's name, Social Security Number, User ID, citizenship; pay; educational level; emergency data; employee's status, position, supervisor, timekeeper, project manager, system access level, accounting codes, organization and office location, e-mail address and office telephone numbers; telework location and phone number, rate, leave balances; work and shift schedule, project and workload records, regular and overtime work hours and leave hours, time and attendance records (timesheet), and information on temporary duty and special assignments.

Authority for maintenance of the system:

5 U.S.C. Chapter 61, Hours of Work; Chapter 53, Pay Rates and Systems; Chapter 57, Travel, Transportation, and Subsistence; and Chapter 63, Leave; 5 U.S.C. 301, Departmental Regulations; 10 U.S.C. 136, Under Secretary of Defense for Personnel and Readiness; 31 U.S.C., Chapter 35, Accounting and Collection; and E.O. 9397 (SSN).

Purpose(s):

Records are used to prepare time and attendance records, to record employee pay rates and status, including overtime, the use of leave, and work absences; to track workload, project activity for analysis and reporting purposes; for statistical reporting on leave and overtime use/usage patterns, number of employees Teleworking, etc.; and to answer employee queries on leave, overtime, and pay.

Information from this system of records is provided to the Defense Finance and Accounting Service for the purpose of issuing payroll to DLA civilian employees.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of DLA's compilation of systems of records notices apply to this system.

Policies and practices for storing, retrieving, accessing, retaining, and disposing of records in the system:

Storage:

Records are stored on paper and on electronic storage media.

Retrievability:

Records are retrieved by employee's name, Social Security Number or User ID.

Safeguards:

Records are maintained in a controlled facility. Physical entry is restricted by the use of locks, guards, and is accessible only to authorized personnel. Access to computerized data is restricted by passwords, which are changed periodically. Access to record is limited to person(s) responsible for servicing the records in the performance of their official duties and who are properly screened and cleared for need-to-know. All individuals granted access to this system of records are required to have Information Assurance and Privacy Act training.

Retention and disposal:

Initialed Leave Application Files (LAF) are destroyed at end of following pay period, un-initialed LAFs are destroyed after GAO audit or when 3 years old, whichever is sooner. Time and Attendance Source Records and Input Records are destroyed after GAO audit or when 6 years old, whichever is sooner. Leave Records are destroyed when 3 years old. Payroll system reports and data used for personnel management purposes are destroyed when 2 years old.

Project and workload records—disposition pending. Until the National Archives and Records Administration has approved the retention, treat “project and workload records” as permanent.

System manager(s) and address:

EAGLE Project Manager, J6-UT Tailored Logistics Division, Defense Logistics Agency, 2001 Mission Drive, Suite 2, New Cumberland, PA 17070-5004. For a list of system managers at the DLA Field Activities, write to the EAGLE Project Manager.

Notification procedure:

Individuals seeking to determine whether information about themselves is contained in this system of records should address written inquiries to the Privacy Act Office, Headquarters, Defense Logistics Agency, ATTN: DP, 8725 John J. Kingman Road, Stop 2533, Fort Belvoir, VA 22060-6221 or to the Privacy Act Office in the DLA Field Activity where employed. Official mailing addresses are published as an appendix to DLA's compilation of systems of records notices.

Inquiry should contain the subject individual's full name, User ID, return mailing address, and organizational location of employee.

Record access procedures:

Individuals seeking access to information about themselves contained in this system of records should address written inquiries to the Privacy Act Office, Headquarters, Defense Logistics Agency, ATTN: DP, 8725 John J. Kingman Road, Stop 2533, Fort Belvoir, VA 22060-6221 or to the Privacy Act Office in the DLA Field Activity where employed. Official mailing addresses are published as an appendix to DLA's compilation of systems of records notices.

Inquiry should contain the subject individual's full name, User ID, return mailing address, and organizational location of employee.

Contesting record procedures:

The DLA rules for accessing records, for contesting contents, and appealing initial agency determinations are contained in 32 CFR part 323, or may be obtained from the Privacy Act Office, Headquarters, Defense Logistics Agency, ATTN: DP, 8725 John J. Kingman Road, Stop 2533, Fort Belvoir, VA 22060-6221.

Record source categories:

Subject individuals, supervisors, timekeepers, leave slips, payroll office and payroll records, including automated payroll systems.

Exemptions claimed for the system:

None.

[FR Doc. E6-20979 Filed 12-8-06; 8:45 am]

BILLING CODE 5001-06-P